DEPARTMENT OF ENERGY

[Docket No. EG-00-251-000]

Coyote Springs 2, LLC; Notice of Amended Application for Commission Determination of Exempt Wholesale Generator Status

September 29, 2000.

Take notice that on September 28, 2000, Coyote Springs 2, LLC, P.O. Box 10, 200 Ullman Boulevard, Boardman, Oregon 97818, filed with the Federal Energy Regulatory Commission an amended application for determination of exempt wholesale generator status pursuant to Part 365 of the Commission's regulations.

The Applicant proposes to develop and own a natural gas-fired combined-cycle electric generation plant with a maximum capacity of 280 megawatts. The facility will be located in Morrow County, Oregon. The facility is scheduled to be completed in June 2002. All of the electric output of the facility will be sold at wholesale.

Any person desiring to be heard concerning the amended application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the amended application. All such motions and comments should be filed on or before October 12, 2000, and must be served on the applicant. Any person wishing to become a party must file a motion to intervene. Copies of this filing are on file with the Commission and are available for public inspection or on the Internet at http://www.ferc.fed.us/online/rims.htm (please call (202) 208-2222 for assistance.

Linwood A. Watson, Jr.
Acting Secretary.

[FR Doc. 00-25616 Filed 10-4-00; 8:45 am]

BILLING CODE 6717-01-M